DEPARTMENT OF HEALTH AND HUMAN SERVICES

Centers for Disease Control and Prevention

Disease, Disability, and Injury Prevention and Control; Special Emphasis Panel: Research on the Impact of Law on Public Health, Program Announcement #03049

In accordance with section 10(a)(2) of the Federal Advisory Committee Act (Pub. L. 92-463), the Centers for Disease Control and Prevention (CDC) announces the following meeting:

Name: Disease, Disability, and Injury Prevention and Control Special Emphasis Panel (SEP): Research on the Impact of Law on Public Health, Program Announcement #03049.

Times and Dates: 3 p.m.-3:30 p.m., May 27, 2003 (Open). 3:30 p.m.-7 p.m., May 27, 2003 (Closed). 8 a.m.-5 p.m., May 28, 2003 (Closed). 8 a.m.-5 p.m., May 29, 2003 (Closed). 8 a.m.-5 p.m., May 30, 2003 (Closed).

Place: Marriott Perimeter Center, 246 Perimeter Center Parkway, NE, Atlanta, GA 30346, 770.270.0422.

Status: Portions of the meeting will be closed to the public in accordance with provisions set forth in section 552b(c) (4) and (6), Title 5 U.S.C., and the Determination of the Director, Management Analysis and Services Office, CDC, pursuant to Public Law 92-463.

Matters to be Discussed: The meeting will include the review, discussion, and evaluation of Letters of Intent received in response to Program Announcement # 03049.

CONTACT PERSON FOR MORE INFORMATION: Joan Karr, Ph.D., Scientific Review Administrator, Public Health Program Practice Office, CDC, 4770 Buford Highway, NE., MS-K-38, Atlanta, GA 30341, Telephone 770.488.2597.

The Director, Management Analysis and Services Office has been delegated the authority to sign Federal Register notices pertaining to announcements of meetings and other committee management activities, for both CDC and the Agency for Toxic Substances and Disease Registry.

Dated: May 2, 2003.
Alvin Hall,
Director, Management Analysis and Services Office, Centers for Disease Control and Prevention (CDC).

[FR Doc. 03-11421 Filed 5-7-03; 8:45 am]

BILLING CODE 4163-18-P